FEDERAL TRADE COMMISSION

16 CFR Part 23

Guides for the Jewelry, Precious Metals, and Pewter Industries

AGENCY: Federal Trade Commission.

ACTION: Notice of extension of comment period.

SUMMARY: On July 6, 2005, the Federal Trade Commission (“FTC” or “Commission”) requested public comments on whether the platinum section of the FTC's Guides for the Jewelry, Precious Metals, and Pewter Industries (“Jewelry Guides”), 16 CFR 23, should be amended. The Commission solicited comments until September 28, 2005. In response to a request from the Appraisal Information NetWork (“AI NetWork”), the Commission grants an extension of the comment period until October 12, 2005.

DATES: Written comments will be accepted until October 12, 2005.

ADDRESSES: Interested parties are invited to submit written comments. Comments should refer to “Jewelry Guides, Matter No. G711001” to facilitate the organization of comments. A comment filed in paper form should include this reference both in the text and on the envelope, and should be mailed or delivered to the following address: Federal Trade Commission/Office of the Secretary, Room 135 (Annex Y), 600 Pennsylvania Avenue, NW., Washington, DC 20580. Comments containing confidential material must be filed in paper form, must be clearly labeled “Confidential,” and must comply with Commission Rule 4.9(c). 16 CFR 4.9(c) (2004).¹

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following: http://secure.commentworks.com/ftc-jewelry and following the instructions on the web-based form. To ensure that the Commission considers an electronic comment, you must file it on the web-based form at the http://secure.commentworks.com/ftc-jewelry. You also may visit http://www.regulations.gov to read this request for comment, and may file an electronic comment through that website. The Commission will consider all comments that regulations.gov forwards to it.

The FTC Act and other laws the Commission administers permit the collection of public comments to consider and use in this proceeding as appropriate. All timely and responsive public comments, whether filed in paper or electronic form, will be considered by the Commission, and will be available to the public on the FTC website, to the extent practicable, at http://www.ftc.gov. As a matter of discretion, the FTC makes every effort to remove home contact information for individuals from the public comments it receives before placing those comments on the FTC website. More information, including routine uses permitted by the Privacy Act, may be found in the FTC's privacy policy, at http://www.ftc.gov/ftc/privacy.htm.

FOR FURTHER INFORMATION CONTACT: Neil Blickman, Attorney, Division of Enforcement, Bureau of Consumer Protection, Federal Trade Commission, 600 Pennsylvania Avenue, NW., Washington, DC 20580, (202) 326-3038.

SUPPLEMENTARY INFORMATION: On July 6, 2005, the Commission published in the Federal Register a request for public comments on whether to amend the platinum section of the Jewelry Guides, 16 CFR Part 23 (70 FR 38834). Specifically, the Federal Register notice solicited public comments on whether the platinum section of the Commission's Jewelry Guides should be amended to provide guidance on how to mark or non-deceptively describe products containing between 500 and 850 parts per thousand pure platinum and no other platinum group metals.

On September 15, 2005, the Commission staff received a request for an extension of the comment period from the AI NetWork.² The AI NetWork maintains that many industry members, including many small businesses, have received inadequate notice of the Commission's request for comment because the earliest that trade publications could have included information about the Commission's proceeding was in their September issues, and because of the adverse effects of Hurricane Katrina.

² The AI NetWork is an online professional network of interactive forums and reference materials for, among others, the gems and jewelry trades. Its subscribers include major jewelry manufacturers, distributors, retailers, designers, and appraisers, as well as gemologists and antique dealers. The AI NetWork and its subscribers, therefore, have a significant interest in the outcome of the Commission's proceeding relating to the Jewelry Guides.

The Commission is aware that the issues raised by the Federal Register notice are complex and technical. Accordingly, to provide additional time for interested parties to prepare comments, the Commission has decided to extend the deadline for comments until October 12, 2005.

By direction of the Commission.
Donald S. Clark,
Secretary.

[FR Doc. 05-19784 Filed 10-3-05; 8:45 am]

BILLING CODE 6750-01-P